DEPARTMENT OF TRANSPORTATION

Federal Highway Administration

Environmental Impact Statement: San Diego County, CA

AGENCY: Federal Highway Administration (FHWA), DOT.

ACTION: Notice of intent.

SUMMARY: The FHWA, on behalf of the California Department of Transportation (Caltrans), is issuing this notice to advise the public that an Environmental Impact Statement (EIS) will be prepared for a proposed highway project in San Diego County, California.

DATES: Public Scoping Meeting: January 12, 2011; 5 p.m. to 8 p.m.

ADDRESSES: Sherman Heights Community Center, 2258 Island Avenue, San Diego, California 92102.

FOR FURTHER INFORMATION CONTACT: Kevin Hovey, Environmental Analysis Branch Chief, California Department of Transportation, District 11—Environmental Division, MS 242, 4050 Taylor Street, San Diego, CA 92110, Regular Office Hours 7 a.m. to 3 p.m., Telephone number 619-688-0240, e-mail Kevin.Hovey@dot.ca.gov.

SUPPLEMENTARY INFORMATION: Effective July 1, 2007, the Federal Highway Administration (FHWA) assigned, and Caltrans assumed environmental responsibilities for this project pursuant to 23 U.S.C. 327. Caltrans as the delegated National Environmental Policy Act (NEPA) agency will prepare a Draft Environmental Impact Statement on a proposal for a highway project in San Diego County, California.

The project is approximately three miles in length and its project limits are post miles (PM) 1.4 to 4.4 along SR-94, PM 12.95 to 13.51 along Interstate 805 (I-805), and PM R0.655 to R3.4 along State Route 15 (SR-15). The proposed action includes the addition of two dedicated HOV/BRT lanes and, depending on the alternative, the following additional improvements: Relocating left-hand connectors; constructing new interchanges and improvements along the existing connectors; removal, replacement, and relocation of bridge overcrossings; and drainage modifications within the project corridor. Retaining/Sound walls would also be added and new right-of-way (ROW) would be required.

Two build alternatives and one no build alternatives are under consideration. The No Build Alternative assumes that no improvements would be made along the SR-94 project corridor and that conditions would remain the same. No HOV/BRT lanes would be constructed, and no other freeway improvements would be made. Maintaining existing conditions would not manage the available capacity on SR-94 and would not facilitate the use of HOV/BRT.

Alternative 1 would provide a HOV/BRT lane in each direction of SR-94 between I-5 and I-805. These lanes would be constructed in the median of SR 94. The HOV/BRT lanes also include direct connectors at I-805 in the north-west and east-south directions and at SR-15 in the south-west and east-north directions. This alternative would remove the left hand branch connectors at the SR-94/SR-15 interchange and replace them with right hand branch connectors. The estimated capital cost of this alternative is 465 million dollars.

Alternative 2 would provide a HOV/BRT lane in each direction on SR-94 between I-5 and I-805. These lanes would be constructed in the median of SR 94. The HOV/BRT lanes also include direct connectors at I-805 in the north-west and east-south directions, and at I-15 in the south-west and east-north directions. The I-805/SR-94 HOV/BRT connector would stay elevated over SR-15 and 32nd Street and touchdown west of 30th Street. The existing left hand branch connectors at SR-15 would be left in place. The estimated capital cost of this alternative is 452 million dollars.

This project will be subject to the Section 6002 Environmental Review process and potential final approvals for the proposed project include, but are not limited to, consultation with the U.S. Fish and Wildlife Service under Section 7 of the Federal Endangered Species Act; conformance with Section 404 of the Clean Water Act; conformance with Section 4(f) of the Department of Transportation Act of 1966; conformance under Section 106 of the National Historic Preservation Act; and conformance of the Clean Air Act.

Letters describing the proposed action and soliciting comments will be sent to appropriate Federal, State, Participating Agencies, and local agencies, and to private organizations and citizens who have previously expressed or are known to have interest in this proposal. A public scoping meeting will be held at the Sherman Heights Community Center in San Diego, California on January 12, 2011 from 5 p.m. to 8 p.m. In addition, a public hearing will be held. Public notice will be given of the time and place of the meeting and hearing. The Draft Environmental Impact Statement will be available for public and agency review and comment prior to the public hearing.

To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: November 16, 2010.
Cindy Vigue,
Director, State Programs, Federal Highway Administration, Sacramento, California.

[FR Doc. 2010-29338 Filed 11-19-10; 8:45 am]

BILLING CODE 4910-22-P